NATIONAL PRISON RAPE ELIMINATION COMMISSION

Notice of Meeting; Public Announcement; Sunshine Act Meeting

Pursuant to the Prison Rape Elimination Act of 2003 (Pub. L. 108-79) [42 U.S.C 15601, et seq.].

Agency Holding Meeting: National Prison Rape Elimination Commission.

Date and Time: 9:30 a.m. on Friday, August 19, 2005.

Place: Ceremonial Courtroom, United States District Court for the Northern District of California, Nineteenth floor, Phillip Burton Federal Building and United States Courthouse, 450 Golden Gate Avenue, San Francisco, California 94102.

Status: Open—Public Hearing.

Matters Considered: The victimization of vulnerable prisoners, including youth, gay, and mentally ill inmates. Survivors will testify about having been sexually assaulted while incarcerated, and expert witnesses will discuss the victimizing of vulnerable inmates.

Agency Contact: L. Jackson Thomas II, Acting Executive Director, National Prison Rape Elimination Commission, (202) 616-9052.

Dated: August 1, 2005.
L. Jackson Thomas II,
Acting Executive Director, National Prison Rape Elimination Commission.

[FR Doc. 05-15548 Filed 8-2-05; 3:01 pm]

BILLING CODE 4410-18-P